DEPARTMENT OF ENERGY

Federal Energy Regulatory Commission

[Docket No. EL13-41-000]

Occidental Chemical Corporation v. Midwest Independent Transmission System Operator, Inc.; Notice of Complaint and Petition for Declaratory Order

Take notice that on January 17, 2013, pursuant to section 206 and 306 of the Federal Power Act (FPA), 16 U.S.C. 824e, and 825e (2012) and Rules 206 and 207(a)(2) of the Rules of Practice and Procedure of the Federal Energy Regulatory Commission (FERC or Commission); 18 CFR 385.206 and 18 CFR 385.207(a)(2) (2012), Occidental Chemical Corporation (Complainant) filed (1) a formal complaint against Midwest Independent Transmission System Operator, Inc. (Respondent or MISO), alleging that the MISO QF Integration Plan is unlawful, in violation of FPA sections 205 and 206, as well as, violates the Public Utility Regulatory Policies Act of 1978 (PURPA) and the Commission's implementing regulations and (2) a petition for declaratory order requesting that the Commission direct MISO to permit qualifying facilities (QFs) to register for and participate in its markets without forgoing their statutory rights under PURPA and FERC's implementing regulations and find that the MISO QF Integration Plan is invalid and cannot be implemented by MISO because it has not been filed with FERC pursuant to section 205 of the FPA.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 14, 2013.

Dated: January 18, 2013.
Kimberly D. Bose,
Secretary.

[FR Doc. 2013-01611 Filed 1-25-13; 8:45 am]

BILLING CODE 6717-01-P